DEPARTMENT OF EDUCATION

Submission for OMB Review; Comment Request

AGENCY: Department of Education.

SUMMARY: The IC Clearance Official, Regulatory Information Management Services, Office of Management invites comments on the submission for OMB review as required by the Paperwork Reduction Act of 1995.

DATES: Interested persons are invited to submit comments on or before November 13, 2007.

ADDRESSES: Written comments should be addressed to the Office of Information and Regulatory Affairs, Attention: Education Desk Officer, Office of Management and Budget, 725 17th Street, NW., Room 10222, Washington, DC 20503. Commenters are encouraged to submit responses electronically by e-mail to oira_submission@omb.eop.gov or via fax to (202) 395-6974. Commenters should include the following subject line in their response “Comment: [insert OMB number], [insert abbreviated collection name, e.g., “Upward Bound Evaluation”]. Persons submitting comments electronically should not submit paper copies.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The IC Clearance Official, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: October 3, 2007.
Angela C. Arrington,
IC Clearance Official, Regulatory Information Management Services, Office of Management.

Institute of Education Sciences

Type of Review: New.

Title: The Effects of a Hybrid Secondary School Course in Algebra I on Teacher Practices, Classroom Quality and Adolescent Learning.

Frequency: Annually.

Affected Public: Individuals or household; Businesses or other for-profit; Not-for-profit institutions; Federal Government; State, Local, or Tribal Gov't, SEAs or LEAs.

Reporting and Recordkeeping Hour Burden:

Responses: 796.

Burden Hours: 131.

Abstract: Algebra I has emerged in recent years as a critical gatekeeper course, necessary to prepare students for the rigorous mathematics curriculum required for high school graduation and successful postsecondary experiences. Therefore, providing Algebra I teachers with the very best resources and professional development to ensure effective instruction has become a priority in Kentucky and across the nation. This research study is designed to test, through a rigorous experimental design, an approach that combines online and technology enhanced instruction with face-to-face classroom instruction to address this need. This hybrid or “blended” approach has shown promising results in Kentucky and elsewhere.

Teachers who receive the intervention in this study will apply the hybrid approach using the Kentucky Virtual High School's (KVHS) online course curriculum in Algebra I. They will be supported by extensive professional development in hybrid instruction and research-based practices for teaching Algebra I. The KVHS course is fully aligned with national and new state standards for Algebra instruction. The results on improved instructional practices, classroom quality, and student learning will be compared to those in control sites in which Algebra I instruction will continue as it has with traditional classroom instruction.

Participating schools will be randomly assigned to either an intervention group or a control group in Spring 2008 and participating teachers will assume the intervention or control status assigned to their school. Baseline data collection for both intervention and control groups will begin in the fall of 2008, and continue each semester through spring 2010. Participating teachers in the intervention schools will begin professional development in May 2008, and will continue with the facilitated face-to-face online support of a master teacher as they implement the intervention in 2008-2009. Teachers will continue to have access to all of the online resources for instruction in 2009-2010, as well as on-demand support from KVHS. Results of the study will be made available following a technical review by the U.S. Department of Education, Institute of Education Sciences.

Requests for copies of the information collection submission for OMB review may be accessed from http://edicsweb.ed.gov, by selecting the “Browse Pending Collections” link and by clicking on link number 3411. When you access the information collection, click on “Download Attachments” to view. Written requests for information should be addressed to U.S. Department of Education, 400 Maryland Avenue, SW., Potomac Center, 9th Floor, Washington, DC 20202-4700. Requests may also be electronically mailed to ICDocketMgr@ed.gov or faxed to 202-245-6623. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E7-20100 Filed 10-11-07; 8:45 am]

BILLING CODE 4000-01-P